DEPARTMENT OF HEALTH AND HUMAN SERVICES

[Document Identifier: OS-0990—New]

Agency Information Collection Request. 60-Day Public Comment Request

AGENCY: Office of the Secretary, HHS.

In compliance with the requirement of section 3506(c)(2)(A) of the Paperwork Reduction Act of 1995, the Office of the Secretary (OS), Department of Health and Human Services, is publishing the following summary of a proposed information collection request for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden. To obtain copies of the supporting statement and any related forms for the proposed paperwork collections referenced above, e-mail your request, including your address, phone number, OMB number, and OS document identifier, to Sherette.funncoleman@hhs.gov, or call the Reports Clearance Office on (202) 690-6162. Written comments and recommendations for the proposed information collections must be directed to the OS Paperwork Clearance Officer at the above e-mail address within 60-days.

Proposed Project: Evaluation of the Parents Speak Up National Campaign (PSUNC): National Media Tracking Surveys. OMB No. 0990-NEW-Office of Public Health and Science, Office of Population Affairs, Office of Adolescent Pregnancy Programs

Abstract: The OS proposes to conduct a national media tracking survey as part of the Parents Speak Up National Campaign. The U.S. Department of Health and Human Services (USDHHS) launched the Parents Speak Up National Campaign (PSUNC) in June 2007. This national public education campaign is designed to encourage parents of pre-teens and teens to talk to their children early and often about waiting to have sex. The campaign includes public service announcements (PSA) and print advertisements that guide parents to the 4parents.gov Web site.

The specific aim of this study is to determine the effectiveness of the PSUNC messages by measuring parents' awareness of, reactions to, and receptivity to specific PSUNC advertising. In partnership with Knowledge Networks, an online panel based on a random-digit-dial sample of the full United States population, a probability baseline sample will be selected of 2,000 parents of children aged 10 to 14.

Key research questions include changes in the following outcomes: Perceived risks from teen sexual activity, perceived susceptibility, attitudes towards teen sexual activity, self-efficacy to talk to their child, outcome efficacy, perceived value of delayed sexual activity, and parent-child communication about sex. Parents will self-administer the questionnaire at home on personal computers.

Estimated One-Year Annualized Burden Table
Forms (if necessary) | Type of respondent | Number of respondents | Number of responses per respondent | Average burden hours per response | Total burden hours
Fall 2009 Media Tracking Survey (unretained for follow-up) | Parents of children ages 10-14 | 1,000 | 1 | 24/60 | 400
Fall 2009 and Spring/Fall 2010 Media Tracking Surveys (retained for follow-up) | Parents of children ages 10-14 | 1,000* | 2 | 24/60 | 800
Total |  | 2,000 |  |  | 1,200
* Subset of original 2,000 collected for Fall 2009 Media Tracking Survey.

Mary Oliver-Anderson,
Office of the Secretary, Paperwork Reduction Act Reports Clearance Officer.

[FR Doc. E8-31375 Filed 1-2-09; 8:45 am]

BILLING CODE 4150-03-P